ENVIRONMENTAL PROTECTION AGENCY

[EPA-HQ-OPP-2006-0237; FRL-8061-6]

Geologics; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to Geologics in accordance with 40 CFR 2.307(h)(3) and 2.308(i)(2). Geologics has been awarded multiple contracts to perform work for OPP, and access to this information will enable Geologics to fulfill the obligations of the contract.

DATES: Geologics will be given access to this information on or before May 8, 2006.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. i. EPA has established a docket for this action under Docket identification (ID) number EPA-HQ-OPP-2006-0237. Publicly available docket materials are available electronically at http://www.regulations.gov.

ii. Important Note: OPP will be moving to a new location the first week of May 2006. As a result, from Friday, April 28 to Friday, May 5, 2006, the OPP Regulatory Public Docket will NOT be accepting any deliveries at the Crystal Mall #2 address and this facility will be closed to the public. Beginning on May 8, 2006, the OPP Regulatory Public Docket will reopen at 8:30 a.m. and deliveries will be accepted in Rm. S-4400, One Potomac Yard (South Building), 2777 S. Crystal Drive, Arlington, VA 22202. The mail code for the mailing address will change to (7502P), but will otherwise remain the same. The OPP Regulatory Public Docket telephone number ((703) 305-5805) and hours of operation (8:30 a.m. to 4 p.m., Monday through Friday, excluding legal holidays) will remain the same after the move.

2. Electronic access. You may access this Federal Register document electronically through the EPA Internet under the Federal Register listings at http://www.epa.gov/fedrgstr.

II. Contractor Requirements

Under these contract numbers, the contractor will perform the following:

1. Under Contract No.GS-10F-0452M, enter data for DMR-QA Studies 25 and 26.

2. Perform data entry analysis of DMR-QA Study 25 trends, provide suggestions and editorial comments to improve instructions and format of the DMR-QA notice, and

3. Enter data of Laboratory inspections and data audits conducted by the Laboratory Data Integrity Branch.

This contract involves no subcontractors.

The OPP has determined that the contracts described in this document involve work that is being conducted in connection with FIFRA, since pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contracts with Geologics, prohibits use of the information for any purpose not specified in these contracts; prohibits disclosure of the information to a third party without prior written approval from the Agency; and requires that each official and employee of the contractor sign an agreement to protect the information from unauthorized release and to handle it in accordance with the FIFRA Information Security Manual. In addition, Geologics is required to submit for EPA approval a security plan under which any CBI will be secured and protected against unauthorized release or compromise. No information will be provided to Geologics until the requirements in this document have been fully satisfied. Records of information provided to Geologics will be maintained by EPA Project Officers for these contracts. All information supplied to Geologics by EPA for use in connection with these contracts will be returned to EPA when Geologics has completed its work.

List of Subjects

Environmental protection, Business and industry, Government contracts, Government property, Security measures.

Dated: April 25, 2006.
Robert A. Forrest,
Acting Director, Information Technology and Resources Management Division, Office of Pesticide Programs.

[FR Doc.E6-6611 Filed 5-2-06; 8:45 am]

[BILLING CODE 6560-50-S